DEPARTMENT OF ENERGY

Federal Energy Regulatory Commission

[Docket No. RM14-22-000]

Proposed Agency Information Collection

AGENCY: Federal Energy Regulatory Commission, DOE.

ACTION: Comment request.

SUMMARY: In compliance with the requirements of the Paperwork Reduction Act of 1995, the Federal Energy Regulatory Commission (Commission or FERC) is submitting the information collections in Docket No. RM14-22-000 to the Office of Management and Budget (OMB) for review of the information collection requirements. Any interested person may file comments directly with OMB and should file a copy of those comments to the Commission as explained below.

The Commission solicited comments on the information collections associated with RM14-22-000 in Order No. 800 published in the Federal Register (79 FR 59105, October 1, 2014). The Commission received no comments on the information collections and is making this notation in its submission to OMB.

DATES: Comments on the information collections are due by January 9, 2015.

ADDRESSES: Comments filed with OMB, identified by FERC-505 and FERC-512, should be sent by email to the Office of Information and Regulatory Affairs: oira_submission@omb.gov, Attention: Federal Energy Regulatory Commission Desk Officer. The Desk Officer may also be reached by telephone at (202) 395-4718.

A copy of the comments should also be filed with the Commission, identified by the Docket No. RM14-22-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions to the Commission must be formatted and filed in accordance with submission guidelines at: http://www.ferc.gov/help/submission-guide.asp. For user assistance contact FERC Online Support by email at ferconlinesupport@ferc.gov, or by phone at: (866) 208-3676 (toll-free), or (202) 502-8659 (TTY).

Docket: Users interested in receiving automatic notification of activity in this docket or in viewing/downloading comments and issuances in this docket may do so at http://www.ferc.gov/docs-filing/docs-filing.asp.

FOR FURTHER INFORMATION CONTACT: Ellen Brown by email at DataClearance@FERC.gov, by telephone at (202) 502-8663, or by fax at (202) 273-0873.

SUPPLEMENTARY INFORMATION: The information collections in Docket No. RM14-22-000 relate to Commission-approved revisions to conform the Commission's regulations on preliminary permits and exemptions to the Hydropower Regulatory Efficiency Act of 2013 (Hydropower Efficiency Act).¹ The information collection requirements for preliminary permits and exemptions are contained in: FERC-505 (Small Hydropower Projects and Conduits Facilities including License/Relicense, Exemption, and Qualifying Conduit Facility Determination, OMB Control Number 1902-0115) and FERC-512 (Preliminary Permit, OMB Control Number 1902-0073).

¹ Public Law 113-23 (2013).

The Hydropower Efficiency Act amended statutory provisions pertaining to preliminary permits and to projects that are exempt from certain licensing requirements under the Federal Power Act (FPA) ² in order to reduce cost and regulatory burden, and in turn, promote hydropower development. Specifically, the Hydropower Efficiency Act gave the Commission authority to extend a preliminary permit once for not more than two additional years without requiring the permittee to apply for a successive preliminary permit. The Hydropower Efficiency Act also expanded the number of projects that may qualify for exemptions from certain licensing requirements under the FPA (i.e., small conduit exemptions or small hydroelectric power projects), and allowed other projects to qualify to operate without Commission oversight (i.e., qualifying conduit hydropower facilities).

² 16 U.S.C. 798 (2012), amended by, Hydropower Regulatory Efficiency Act of 2013, Public Law 113-23, 5, 127 Stat. 493 (2013).

The Commission approved the revised regulations in Order No. 800. While the revised regulations formally implement the Hydropower Efficiency Act, the Commission has complied with the Act since its enactment. Moreover, in Order No. 800, the Commission found that the revised regulations will reduce the current burden for affected entities.³

³ Revisions and Technical Corrections to Conform the Commission's Regulations to the Hydropower Regulatory Efficiency Act of 2013, Order No. 800, 79 FR 59105 (Oct. 1, 2014), 148 FERC ¶ 61,197, at P 13 (2014).

Burden Statement: ⁴

⁴ The Commission defines burden as the total time, effort, or financial resources expended by persons to generate, maintain, retain, or disclose or provide information to or for a Federal agency. For further explanation of what is included in the information collection burden, reference 5 CFR 1320.3.

The Commission estimates the average annual reporting burden and cost as follows:

⁵ The estimated average hourly cost (salary plus benefits) is $70.50.

⁶ The Commission considers an application to be a “response.”

⁷ The estimates provided for small conduit exemption applications are for all conduit exemption applications, including applications for non-municipal conduit exemptions that have an installed capacity of greater than 15 MW and up to 40 MW, and for any conduit exemption located on federal land.

⁸ In the Commission's first solicitation of comments on the information collections in Order No. 800, Commission staff estimated that the Commission would receive five conduit exemption applications per year. Since the Hydropower Efficiency Act's enactment in August 2013, the Commission has received only three conduit exemption applications. Therefore, Commission staff reduces its estimate of anticipated conduit exemption applications to two applications per year.

⁹ Given that Commission staff estimates two conduit exemption applications per year, Commission staff anticipates surrenders of conduit exemptions on federal lands to be rare. Hence, Commission staff estimates one surrender of a conduit exemption on federal lands to be filed every ten years (equaling on average 0.1 applications per year). The one surrender would trigger agency notification, which is estimated to take 46 hours. The burden and cost are being averaged over that ten-year period (equaling on average 4.6 hours per year).

Annual Changes Implemented by the Final Rule in RM14-22 ⁵
Type of respondents | Number of respondents | Annual number of responses ⁶ per respondent | Total number of responses | Average burden and cost per response | Total annual burden hours and total annual cost | Cost per respondent
| (a) | (b) | (a) × (b) = (c) | (d) | (c) × (d) = (e) | (e)/(a)
FERC-505, Small Hydropower Projects and Conduit Facilities Including License/Relicense, Exemption, and Qualifying Conduit Facility Determination
Small conduit exemption applications (40 MW or less, which can now be on fed. lands) ⁷ | ⁸ 2 | 1 | 2 | * 46 $3,243 | * 92 $6,486 | $3,243
Small conduit exemption holder—notice to fed. agencies of petition to surrender and steps to be taken to restore lands | 1 | ⁹ 0.1 | 0.1 | * 46 $3,243 | * 4.6 $324 | $324
Small hydroelectric power project exemption applications (greater than 5 MW and up to 10 MW) | ¹⁰ 2 | 1 | 2 | * 46 $3,243 | * 92 $6,486 | $3,243
Qualifying conduit hydropower facility—notices of intent ¹¹ | ¹² 8 | 1 | 8 | * 46 $3,243 | * 368 $25,944 | $3,243
FERC-512, Preliminary Permit
Request for extension to 5 years | ¹³ 80 | 1 | 80 | * 4 $282 | * 320 $22,560 | $282
* Hours.

Comments: Comments are invited on: (1) Whether the information collections are necessary for the proper performance of the functions of the Commission, including whether the information will have practical utility; (2) the accuracy of the agency's estimate of the burden and cost of the information collections, including the validity of the methodology and assumptions used; (3) ways to enhance the quality, utility, and clarity of the information collections; and (4) ways to minimize the burden of the information collections on those who are to respond, including the use of automated collection techniques or other forms of information technology.

¹⁰ The Commission received six license applications between 2010 and 2013 that proposed projects with installed capacity greater than 5 MW, which could now qualify for a small hydroelectric power project exemption. Therefore, Commission staff estimates that on average the Commission receives two applications per year.

¹¹ A notice of intent is a request that the Commission determine a project is a qualifying conduit hydropower facility.

¹² While the Commission initially received a rash of notices of intent to construct qualifying conduit hydropower facilities, Commission staff expects notices of intent to taper off. Over 60 percent of the 36 notices of intent the Commission received since the Hydropower Efficiency Act's enactment were filed within the first six months of the program. In the last three months, the Commission received three notices of intent; one of which the applicant refiled after Commission staff rejected the applicant's first notice of intent. Therefore, Commission staff estimates that it will receive eight notices of intent per year.

¹³ Based on the number of preliminary permits issued in the past three years, Commission staff estimates that an annual average of 80 permits will be eligible to request an extension.

Dated: December 5, 2014.
Nathaniel J. Davis, Sr.,
Deputy Secretary.

[FR Doc. 2014-28949 Filed 12-9-14; 8:45 am]

BILLING CODE 6717-01-P